DEPARTMENT OF ENERGY

[OE Docket Nos. EA-321, EA-322, EA-323, EA-324 and EA-325]

Applications To Export Electric Energy; Emera Energy Services Subsidiaries

AGENCY: Office of Electricity Delivery and Energy Reliability, DOE.

ACTION: Notice of Applications.

SUMMARY: Five power marketing subsidiaries of Emera Incorporated (Emera) have applied to export electric energy from the United States to Canada, pursuant to section 202(e) of the Federal Power Act (FPA).

DATES: Comments, protests or requests to intervene must be submitted on or before April 11, 2007.

ADDRESSES: Comments, protests or requests to intervene should be addressed as follows: Office of Electricity Delivery and Energy Reliability (OE-20), U.S. Department of Energy, 1000 Independence Ave., Washington, DC 20585-0350 (Fax 202-586-5860).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On February 20, 2007, five subsidiaries of Emera each separately applied to the Department of Energy (DOE) for authority to export electric energy from the United States to Canada as power marketers. The electric energy which each applicant proposes to export to Canada would be surplus energy purchased from electric utilities, Federal power marketing agencies, and other entities within the U.S. The applicants are: Emera Energy Services Subsidiary No. 1 LLC (Emera Energy Sub No. 1) (OE Docket No. EA-321); Emera Energy Services Subsidiary No. 2 LLC (Emera Energy Sub No. 2) (OE Docket No. EA-322); Emera Energy Services Subsidiary No. 3 LLC (Emera Energy Sub No. 3) (OE Docket No. EA-323); Emera Energy Services Subsidiary No. 4 LLC (Emera Energy Sub No. 4) (OE Docket No. EA-324); and Emera Energy Services Subsidiary No. 5 LLC (Emera Energy Sub No. 5) (OE Docket No. EA-325).

Each applicant proposes to export electric energy to Canada and to arrange for the delivery of those exports to Canada over the international transmission facilities presently owned by Citizens Utilities, Eastern Maine Electric Cooperative, Joint Owners of the Highgate Project, Maine Electric Power Company, Maine Public Service Company, and Vermont Electric Transmission Company.

The construction of each of the international transmission facilities to be utilized by the applicants has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the applications to export electric energy to Canada should be clearly marked with OE Docket Nos. EA-321, EA-322, EA-323, EA-324 or EA-325 as listed above. Additional copies are to be filed directly with Calvin Bell, Emera Energy Services, Inc., One Cumberland Place, Suite 102, Bangor, ME 04401, and Richard J. Smith, Assistant Secretary, Emera Incorporated, 1894 Barrington Street, 17th Floor, Barrington Tower, P.O. Box 910, Halifax, Nova Scotia, Canada B3J 2W5 and Michael E. Small, Wendy N. Reed, Deborah C. Brentani, Wright & Talisman, P.C., 1200 G Street, NW., Suite 600, Washington, DC 20005.

A final decision will be made on each of these applications after the environmental impacts have been evaluated pursuant to the National Environmental Policy Act of 1969, and determinations are made by the DOE that the proposed actions will not adversely impact on the reliability of the U.S. electric power supply system.

Copies of these applications will be made available, upon request, for public inspection and copying at the address provided above or by accessing the OE Web site at http://www.oe.energy.gov/304.htm.

Issued in Washington, DC, on March 5, 2007.
Anthony J. Como,
Director, Permitting and Siting, Office of Electricity Delivery and Energy Reliability.

[FR Doc. E7-4323 Filed 3-9-07; 8:45 am]

BILLING CODE 6450-01-P